DEPARTMENT OF DEFENSE

Department of the Air Force

HQ USAF Scientific Advisory Board

AGENCY: Department of the Air Force, DoD.

ACTION: Notice of meeting.

SUMMARY: Pursuant to Public Law 92-463, notice is hereby given of the forthcoming meeting of the 2003 Science and Technology Review. The purpose of the meeting is to allow the SAB and study leadership to assess the quality and long-term relevance for the 311th Human Systems Wing Advisory Committee. Because classified and contractor-proprietary information will be discussed, this meeting will be closed to the public.

DATES: 5-6 November, 2003.

ADDRESSES: 311 HSWC/CVX, 2510 Kennedy Circle, Brooks AFB, TX 78235-5115

FOR FURTHER INFORMATION CONTACT: Major Dwight Pavek, Air Force Scientific Advisory Board Secretariat, 1180 Air Force Pentagon, Rm 5D982, Washington, DC 20330-1180, (703) 697-4811.

Pamela D. Fitzgerald,
Air Force Federal Register Liaison Officer.

[FR Doc. 03-26904 Filed 10-23-03; 8:45 am]

BILLING CODE 5001-05-P